DEPARTMENT OF ENERGY

Federal Energy Regulatory Commission

Combined Notice of Filings # 1

August 12, 2010.

Take notice that the Commission received the following electric rate filings:

Docket Numbers: ER03-329-010; ER07-597-005.

Applicants: Northwestern Corporation; Montana Generation, LLC.

Description: NorthWestern Corporation submits updated indicative market power screen analysis for wholesale electricity markets in the Northwest Region as defined in Order No 697.

Filed Date: 06/30/2010.

Accession Number: 20100707-0205.

Comment Date: 5 p.m. Eastern Time on Thursday, September 30, 2010.

Docket Numbers: ER08-649-019.

Applicants: EFS Parlin Holdings, LLC.

Description: EFS Parlin Holdings, LLC submits a revision to its tariff to include the citation for compliance with Order No. 697-A under ER08-649.

Filed Date: 08/09/2010.

Accession Number: 20100810-0222.

Comment Date: 5 p.m. Eastern Time on Monday, August 30, 2010.

Docket Numbers: ER08-1126-003; ER07-100-003; ER08-1127-002; ER08-1128-003; ER08-1129-003; ER08-1130-003; ER08-1131-003; ER08-1132-002; ER08-1133-002; ER08-1134-003; ER08-1135-003; ER08-1136-003; ER08-1137-003; ER08-1138-002; ER08-1139-003.

Applicants: Georgia-Pacific Brewton LLC; Koch Supply & Trading, LP; GP Big Island, LLC; Brunswick Cellulose, Inc.; Georgia-Pacific Cedar Springs LLC; Georgia-Pacific Consumer Operations LLC; Georgia-Pacific Con Ops LLC Port Hudson; Georgia-Pacific Con Prod LP Green Bay W; Georgia-Pacific Consumer Products LP Mus; Georgia-Pacific Cons Prods LP Naheola ; Georgia-Pacific Cons Prods LP Savannah; Georgia-Pacific LLC Crosset; Georgia-Pacific Monticello LLC; Georgia-Pacific Toledo LLC; Leaf River Cellulose, LLC.

Description: Notice of Non-material Change in Status Submitted on Behalf of the Koch Companies.

Filed Date: 08/12/2010.

Accession Number: 20100812-5055.

Comment Date: 5 p.m. Eastern Time on Thursday, September 2, 2010.

Docket Numbers: ER10-1304-001.

Applicants: DownEast Power Company, LLC.

Description: DownEast Power Company, LLC submits tariff filing per 35: eTariff Compliance Filing to be effective 6/1/2009.

Filed Date: 07/13/2010.

Accession Number: 20100713-5091.

Comment Date: 5 p.m. Eastern Time on Monday, August 23, 2010.

Docket Numbers: ER10-1568-001.

Applicants: Long Beach Generation LLC.

Description: Long Beach Generation LLC submits tariff filing per 35: Long Beach Generation—Amendment to Market-Based Rate Tariff to be effective 6/28/2010.

Filed Date: 06/30/2010.

Accession Number: 20100630-5087.

Comment Date: 5 p.m. Eastern Time on Thursday, September 2, 2010.

Docket Numbers: ER10-1580-001.

Applicants: Saguaro Power Company LP.

Description: Saguaro Power Company LP submits tariff filing per 35: Saguaro Power—Amendment to Market-Based Rate Tariff to be effective 6/28/2010.

Filed Date: 06/30/2010.

Accession Number: 20100630-5107.

Comment Date: 5 p.m. Eastern Time on Thursday, September 2, 2010.

Docket Numbers: ER10-1581-001.

Applicants: Long Beach Peakers LLC.

Description: Long Beach Peakers LLC submits tariff filing per 35: Long Beach Peakers—Amendment to Market-Based Rate Tariff to be effective 7/1/2010.

Filed Date: 06/30/2010.

Accession Number: 20100630-5092.

Comment Date: 5 p.m. Eastern Time on Thursday, September 2, 2010.

Docket Numbers: ER10-2061-001.

Applicants: Tampa Electric Company.

Description: Tampa Electric Company seeks to amend their July 30, 2010 filing, to be effective 8/12/2010.

Filed Date: 08/12/2010.

Accession Number: 20100812-5022.

Comment Date: 5 p.m. Eastern Time on Thursday, September 2, 2010.

Docket Numbers: ER10-2092-001.

Applicants: Boralex Ashland LP.

Description: Boralex Ashland LP submits tariff filing per 35: Boralex Ashland LP Compliance to be effective 8/3/2010 under ER10-2092 Filing Type: 70.

Filed Date: 08/12/2010.

Accession Number: 20100812-5105.

Comment Date: 5 p.m. Eastern Time on Thursday, September 2, 2010.

Docket Numbers: ER10-2117-001.

Applicants: Boralex Livermore Falls LP.

Description: Boralex Livermore Falls LP submits tariff filing per 35: Boralex Livermore Falls LP Compliance Filing to be effective 8/5/2010.

Filed Date: 08/12/2010.

Accession Number: 20100812-5092.

Comment Date: 5 p.m. Eastern Time on Thursday, September 2, 2010.

Docket Numbers: ER10-2118-001.

Applicants: Boralex Stratton Energy LP.

Description: Boralex Stratton Energy LP submits tariff filing per 35: Boralex Stratton Energy LP Compliance Filing to be effective 8/5/2010.

Filed Date: 08/12/2010.

Accession Number: 20100812-5100.

Comment Date: 5 p.m. Eastern Time on Thursday, September 2, 2010.

Docket Numbers: ER10-2119-001.

Applicants: Boralex Fort Fairfield LP.

Description: Boralex Fort Fairfield LP submits tariff filing per 35: Boralex Fort Fairfield LP Compliance Filing to be effective 8/5/2010.

Filed Date: 08/12/2010.

Accession Number: 20100812-5103.

Comment Date: 5 p.m. Eastern Time on Thursday, September 2, 2010.

Docket Numbers: ER10-2198-000.

Applicants: Lakefield Wind Project, LLC.

Description: Lakefield Wind Project, LLC submits tariff filing per 35.12: Lakefield Wind Project Application for Market-Based Rate Authorization to be effective 10/10/2010.

Filed Date: 08/11/2010.

Accession Number: 20100811-5102.

Comment Date: 5 p.m. Eastern Time on Wednesday, September 1, 2010.

Docket Numbers: ER10-2199-000.

Applicants: AC Landfill Energy, LLC.

Description: AC Landfill Energy, LLC submits tariff filing per 35.12: Baseline Tariff Filing to be effective 8/12/2010.

Filed Date: 08/12/2010.

Accession Number: 20100812-5042.

Comment Date: 5 p.m. Eastern Time on Thursday, September 2, 2010.

Docket Numbers: ER10-2200-000.

Applicants: BC Landfill Energy, LLC.

Description: BC Landfill Energy, LLC submits tariff filing per 35.12: Baseline Tariff Filing to be effective 8/12/2010.

Filed Date: 08/12/2010.

Accession Number: 20100812-5052.

Comment Date: 5 p.m. Eastern Time on Thursday, September 2, 2010.

Docket Numbers: ER10-2201-000.

Applicants: Marina Energy, LLC.

Description: Marina Energy, LLC submits tariff filing per 35.12: Baseline Tariff Filing to be effective 8/12/2010.

Filed Date: 08/12/2010.

Accession Number: 20100812-5054.

Comment Date: 5 p.m. Eastern Time on Thursday, September 2, 2010.

Docket Numbers: ER10-2203-000.

Applicants: SC Landfill Energy, LLC.

Description: SC Landfill Energy, LLC submits tariff filing per 35.12: Baseline Tariff Filing to be effective 8/12/2010.

Filed Date: 08/12/2010.

Accession Number: 20100812-5059.

Comment Date: 5 p.m. Eastern Time on Thursday, September 2, 2010.

Docket Numbers: ER10-2210-000.

Applicants: New York Independent System Operator.

Description: New York Independent System Operator submits tariff filing per 35.13(a)(2)(iii: Compliance Filing In-City ICAP—Kavanah to be effective 6/30/2010.

Filed Date: 08/12/2010.

Accession Number: 20100812-5073.

Comment Date: 5 p.m. Eastern Time on Thursday, September 2, 2010.

Docket Numbers: ER10-2211-000.

Applicants: Vandolah Power Company, L.L.C.

Description: Vandolah Power Company, L.L.C. submits tariff filing per 35.12: Vandolah Power Company, L.L.C. FERC Electric Tariff No. 1 (Baseline MBR) to be effective 8/12/2010.

Filed Date: 08/12/2010.

Accession Number: 20100812-5074.

Comment Date: 5 p.m. Eastern Time on Thursday, September 2, 2010.

Docket Numbers: ER10-2212-000.

Applicants: South Jersey Energy Company.

Description: South Jersey Energy Company submits tariff filing per 35.12: Baseline Tariff Filing to be effective 8/12/2010.

Filed Date: 08/12/2010.

Accession Number: 20100812-5075.

Comment Date: 5 p.m. Eastern Time on Thursday, September 2, 2010.

Docket Numbers: ER10-2213-000.

Applicants: WC Landfill Energy, LLC.

Description: WC Landfill Energy, LLC submits tariff filing per 35.12: Baseline Tariff Filing to be effective 8/12/2010 under ER10-2213 Filing Type: 360.

Filed Date: 08/12/2010.

Accession Number: 20100812-5085.

Comment Date: 5 p.m. Eastern Time on Thursday, September 2, 2010.

Docket Numbers: ER10-2214-000.

Applicants: Zion Energy LLC.

Description: Zion Energy LLC submits tariff filing per 35.13(a)(2)(iii: Reactive Service Rate Schedule to be effective 9/1/2010 under ER10-2214 Filing Type: 10.

Filed Date: 08/12/2010.

Accession Number: 20100812-5104.

Comment Date: 5 p.m. Eastern Time on Thursday, September 2, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-20649 Filed 8-19-10; 8:45 am]

BILLING CODE 6717-01-P